DEPARTMENT OF HEALTH AND HUMAN SERVICES

Centers for Disease Control and Prevention (CDC)

National Center on Birth Defects and Developmental Disabilities

Name: National Workshop on Mild and Unilateral Hearing Loss.

Times and Dates: 1 p.m.-5 p.m., July 26, 2005. 8:30 a.m.-5 p.m., July 27, 2005.

Place: Beaver Run Resort and Conference Center, 620 Village Road, P.O. Box 2115, Breckenridge, CO 80424, Telephone: (970) 453-6000.

Status: Open to the public, limited only by the space available.

Purpose: The meeting will review and evaluate the scientific research and other data related to mild and unilateral HL to establish recommendations related to identification and appropriate intervention(s) for infants/children. In addition, the meeting will identify potential areas for future research related to mild and unilateral HL.

Matters to be Discussed: The agenda will include a review of the published and unpublished literature assessing the identification and outcomes of infants/children with mild and unilateral HL; a review of screening procedures; diagnostic protocols; follow-up practice; the role of amplification; models of early intervention; and the need for future research.

Agenda items are subject to change as priorities dictate.

FOR FURTHER INFORMATION CONTACT: Marcus Gaffney, M.P.H., National Center on Birth Defects and Developmental Disabilities, CDC, 1600 Clifton Road, NE., M/S E-88, Atlanta, Georgia 30333. Telephone: (404) 498-3031.

The Director, Management Analysis and Services Office, has been delegated the authority to sign Federal Register notices pertaining to announcements of meetings and other committee management activities for both CDC and the Agency for Toxic Substances and Disease Registry.

Dated: May 20, 2005.
Alvin Hall,
Director, Management Analysis and Services Office, Centers for Disease Control and Prevention.

[FR Doc. 05-10541 Filed 5-25-05; 8:45 am]

BILLING CODE 4163-18-P